DEPARTMENT OF HOMELAND SECURITY

Coast Guard

[Docket No. USCG-2009-1085]

Public Workshop on Marine Technology and Standards

AGENCY: Coast Guard, DHS.

ACTION: Notice.

SUMMARY: The American Society of Mechanical Engineers (ASME), in coordination with the United States Coast Guard (USCG), is sponsoring a two-day public workshop in Washington DC on marine technology and standards. This public workshop will provide a unique opportunity for classification societies, industry groups, standards development organizations, government organizations, and other interested members of the public to come together for a professional exchange of information on topics ranging from the technological impact on the marine industry, corresponding coverage in related codes and standards, and government regulations. A related workshop was held in Arlington, VA, on June 3-4, 2008 (73 FR 25756, May 7, 2008), and this workshop will build upon many of the topics discussed there.

DATES: The two-day workshop will be held on Thursday, July 29, 2010, and Friday, July 30, 2010. The deadline for advance registration is Friday, July 16, 2010. If you are interested in presenting a paper at the workshop, you must submit a 100 word abstract to Mr. Joseph S. Brzuszkiewicz, Project Engineering Manager, ASME, by e-mail to brzuszkiewiczj@asme.org. Abstracts are due on or before March 1, 2010.

See SUPPLEMENTARY INFORMATION below for other dates related to submission of abstracts, draft papers, and presentations, as well as more information on how to register for the workshop.

ADDRESSES: The workshop will be held at The Liaison Capitol Hill, An Affinia Hotel, located at 415 New Jersey Avenue, NW., in Washington, DC, approximately 3 blocks from Union Station. The hotel phone number is (202) 638-1616 and the hotel Web site is: http://www.affinia.com/Washington-DC-Hotel.aspx?name=Liaison-Capitol-Hill. For registration for this workshop or to obtain further information, visit the USCG Website at http://www.uscg.mil/marine_event. The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-1085 in the “Keyword” box, and then clicking “Search.”

FOR FURTHER INFORMATION CONTACT: If you have questions on this notice, contact Lieutenant Commander Rob Griffiths, Office of Design and Engineering Standards, USCG, telephone (202) 372-1367, e-mail Robert.P.Griffiths@uscg.mil; or contact Mr. Joseph S. Brzuszkiewicz, Project Engineering Manager, ASME, telephone (212) 591-8533, e-mail brzuszkiewiczj@asme.org.

If you have questions on viewing or submitting material to the docket, call Renee V. Wright, Program Manager, Docket Operations, telephone (202) 366-9826.

SUPPLEMENTARY INFORMATION:

Background and Purpose

The ASME/USCG Workshop on Marine Technology and Standards provides a unique opportunity for classification societies, industry groups, standards development organizations, government agencies, and interested members of the public to come together for a professional exchange of information on topics ranging from the technological impact on the marine industry, corresponding coverage in related codes and standards, and government regulations.

The public workshop is sponsored by the American Society of Mechanical Engineers (ASME), in coordination with the USCG Office of Design and Engineering Standards. ASME is a standards setting organization with wide-ranging volunteer committee membership, which includes USCG supported personnel who serve as members of various ASME committees in support of USCG missions in maritime safety and environmental protection. The USCG Office of Design and Engineering Standards is responsible for developing and promulgating national regulations and standards that govern the safe design and construction of ships and shipboard equipment, including hull structure, stability, electrical & mechanical systems, lifesaving and fire safety equipment, and related equipment approval and laboratory acceptance.

Topics for the 2010 workshop are listed below and include application of various marine technologies to promote green ships, such as safe and economical use of hydrogen (H2) fuel cells to power ships with zero carbon dioxide (CO2) emissions and compressed natural gas (CNG) powered ships with reduced CO2 emissions. This workshop will provide an opportunity for the public to provide expertise on technical matters affecting the marine industry and to improve future policymaking, standards development, and rulemaking, including discussion of possible regulatory changes to facilitate green ship technology. Public engagement on regulations and standards is important to enhance the overall effectiveness and improve the quality of our decisions. It also promotes greater transparency.

Topics of Meeting

This workshop comprises a series of panel sessions over a two-day period covering a variety of topics, including:

Green Ship Technology

• Hydrogen Fuel Cell Propulsion

• Standards for H2 Storage and Delivery

• Emission Cleaning Technology

• CO2 Emission Reduction

• Gas Fueled Ships

• CNG/LNG Technologies

• Use of Biofuels

Offshore Marine Structures

• Floating, Production, Storage and Offloading (FPSO) Units—Topside

• Floating Wind Turbines

• Deepwater Ports

• Diving Systems to Support Offshore Activities

Codes & Standards

• Updates to ASME Code Section VIII, Divisions 2 and 3 regarding Rules of Construction for Pressure Vessels

• Use of ASME Code Section XII—Transport Tanks

• Limit Design for Pressure Vessels

• ASME Code Section X on Fiber-Reinforced Plastic Pressure Vessels for CNG Transport

• ASME Code for Pressure Vessels for Human Occupancy (PVHO)

Material Selection for the Marine Environment

• Nonmetallic Materials for Shipboard Equipment

• Composite Pressure Vessels

• Coating Selection

Risk/Hazard Mitigation

• Transporting CNG as Cargo

• Shipboard Fire Safety for Green Ship/Emerging Technology

• Maintenance and Inservice Inspection

Regulatory/Classification/Governmental Issues

• Rulemaking Process/Future Actions

• Regulatory Gaps Pertaining to Technological Advancements

• Adoption of Standards in Regulations

• Updates on Classification Issues

• OMB Circular A 119

Emerging Technologies

• Ballast Water Management Systems Standardization

Call for Papers

Abstracts

If you are interested in presenting a paper on one or more topics listed above, submit a 100 word abstract to Mr. Joseph S. Brzuszkiewicz, Project Engineering Manager, ASME, by e-mail to brzuszkiewiczj@asme.org. Abstracts are due on or before March 1, 2010, and should also contain the title of your paper, name of each author/co-author, name of each presenter and affiliation to author/co-author, as well as the title, address, phone number, facsimile number, and e-mail address for each named individual.

Draft Papers and Presentations

If you receive notification from us that your abstract is accepted, you may then submit a draft paper and presentation to Lieutenant Commander Rob Griffiths, Office of Design and Engineering Standards, USCG, by e-mail to Robert.P.Griffiths@uscg.mil. Draft papers are due on or before April 9, 2010, with final papers, formatted and ready for publication, due on or before June 7, 2010. Presentations are also due on or before June 7, 2010.

Web Sites

For additional information on this workshop, visit the USCG Web site at http://www.uscg.mil/marine_event.

Registration

To register for this workshop, visit the USCG Web Site listed above in Web Sites. While the workshop is open to the public, meeting space is limited by room capacity. Since seating is limited, we ask anyone interested in attending the workshop to register in advance. The deadline for advance registration is Friday, July 16, 2010. Registration on the first day of the workshop will be permitted on a space-available basis. The registration fee for this event is USD$300. The registration fee includes admission for one person to each panel session for the two day event, several coffee breaks, and a reception on the first day of the event.

Proceedings

Material presented at the workshop will be made available to the public on the USCG Web Site listed above in Web Sites for 30 days after the conclusion of this event. For additional information on material presented at this event, you may contact one of the individuals listed above in FOR FURTHER INFORMATION CONTACT. Summaries of comments made and materials presented will be available on the docket at the conclusion of this event. To view the docket, see instructions above in ADDRESSES.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Information on Services for Individuals With Disabilities

Persons with disabilities who require special assistance should advise us of their anticipated special needs as early as possible by contacting Mr. Joseph S. Brzuszkiewicz, Project Engineering Manager, ASME, telephone (212) 591-8533, e-mail brzuszkiewiczj@asme.org.

Adjournment

Please note that the workshop may adjourn early if all business is finished.

Authority: This notice is issued under authority of 5 U.S.C. 552(a) and 14 U.S.C. 93(a)(4).

Dated: February 16, 2010.
J. G. Lantz,
Director of Commercial Regulations and Standards, U.S. Coast Guard.

[FR Doc. 2010-3473 Filed 2-22-10; 8:45 am]

BILLING CODE 9110-04-P